DEPARTMENT OF LABOR

Employment and Training Administration

[TA-W-41,173]

Progress Lighting, Philadelphia, PA; Notice of Termination of Investigation

Pursuant to section 221 of the Trade Act of 1974, an investigation was initiated on March 25, 2002, in response to a worker petition which was filed on behalf of workers at Progress Lighting, Philadelphia, Pennsylvania.

An active certification covering the petitioning group of workers is already in effect (TA-W-38,307A, as amended). Consequently, further investigation in this case would serve no purpose, and the investigation has been terminated.

Signed in Washington, DC, this 25th day of July, 2002.
Edward A. Tomchick,
Director, Division of Trade Adjustment Assistance.

[FR Doc. 02-20197 Filed 8-8-02; 8:45 am]

BILLING CODE 4510-30-P